DEPARTMENT OF TRANSPORTATION

Federal Highway Administration

[Docket No. FHWA-2013-0057]

Agency Information Collection Activities: Request for Comments for a New Information Collection

AGENCY: Federal Highway Administration (FHWA), DOT.

ACTION: Notice and request for comments.

SUMMARY: In compliance with the Paperwork Reduction Act (PRA) of 1995 (44 U.S.C. 3501-3521), this notice announces that FHWA will submit the collection of information described below to the Office of Management and Budget (OMB) for review and comment. The Federal Register Notice with a 60-day comment period soliciting comments on the following collection of information was published on June 25, 2013. The PRA submission describes the nature of the information collection and its expected cost and burden.

DATES: Please submit comments by January 9, 2014.

ADDRESSES: You may submit comments identified by DOT Docket ID 2013-0057 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Tom Kearney, 518-431-8890, Office of Freight Management & Operations (HOFM-1), Office of Operations, Federal Highway Administration, Department of Transportation, Leo O'Brien Federal Building, Room 715, Albany, NY 12207. Office hours are from 7:30 a.m. to 4:00 p.m., Monday through Friday, except Federal holidays.

SUPPLEMENTARY INFORMATION:

Title: Survey and Comparative Assessment of Truck Parking Facilities.

Background: Section 1401(c) of the Moving Ahead for Progress in the 21st Century Act (MAP-21) requires the U.S. Department of Transportation (USDOT) to complete a survey and comparative assessment of truck parking facilities in each State. Specifically, the study is required to: (1) Evaluate the capability of the State to provide adequate parking and rest facilities for commercial motor vehicles engaged in interstate transportation; (2) assess the volume of commercial motor vehicle traffic in the State; and (3) develop a system of metrics to measure the adequacy of commercial motor vehicle parking facilities in the State. It also requires the results of the survey to be made available to the public on a USDOT accessible Web site.

Respondents: The respondents to the survey include State transportation and enforcement officials, private sector facility owners or operators, State trucking association representatives, and truck drivers. The target groups of respondents are individuals who are responsible for providing or overseeing the operation of truck parking facilities and the stakeholders who depend on truck parking facilities to safely conduct their business. The target group identified in the legislation is “State commercial vehicle safety personnel.” The Federal Highway Administration (FHWA) has interpreted that term to include the State Department of Transportation (DOT) personnel involved in commercial vehicle safety programs and activities, State enforcement personnel directly involved in enforcing highway safety laws and regulations, and personnel involved in highway incident and accident response. FHWA believes the survey should not be limited to publicly owned facilities and seeks input from private sector facility owners or operators. In addition, FHWA also believes that input from trucking company representatives involved in logistics, driver scheduling, and truck drivers themselves, are key stakeholders most likely to know where more truck parking is needed.

Section 1401(c)(1)(C) of MAP-21 requires the development of a system of metrics to measure the adequacy of commercial vehicle parking facilities. Therefore, FHWA intends to invite key stakeholders to participate in a focus group, which will assist in the identification and development of those metrics. The key stakeholders that will be invited to serve on the focus group will include representatives of the national stakeholder organizations listed above.

Types of Survey Questions: FHWA intends to survey State DOT personnel about the location, number of spaces, availability of those spaces, and demand for truck parking in their State. Truck parking spaces found at rest facilities will be included in the survey. FHWA seeks to identify impediments to adequate truck parking capacity including, but not limited to: Legislative, regulatory, or financial issues; zoning; public and private impacts, approval, and participation; availability of land; insurance requirements; and other issues. In addition, FHWA intends to survey private truck stop operators in each state about the location, number of truck parking spaces, availability of those spaces, and demand for the spaces at their facilities. Public safety officials in each state will be surveyed about their records and observations concerning truck parking use and patterns, including the location and frequency of trucks parked adjacent to roadways, and on exit and entrance ramps to roadway facilities. FHWA intends to survey trucking companies and truck drivers about: The location of parking facilities; the frequency that an insufficient amount of truck parking is encountered; capacity at rest facilities; future truck parking needs and locations; availability of information on truck parking capacity; and other impediments to truck parking. Other questions may be included based on input from the focus groups, stakeholder outreach, FHWA's discretion, or as follow-up to the survey.

Estimate:

State Departments of Transportation = 50 (1 hour each) + [up to 10 individuals × up to 5 hours of meeting and travel] = up to 100 hours;

State Enforcement Personnel = 50 (1 hour each) + [up to 10 individuals × up to 5 hours of meeting and travel] = up to 100 hours;

Private Facility Owners/Operators = 229 (30 minutes each) + [up to 10 individuals × up to 5 hours of meeting and travel] = up to 165 hours;

Trucking Association Representatives = 50 (1 hour each) + [up to 10 individuals × up to 5 hours of meeting and travel] = up to 100 hours;

Commercial Motor Vehicle Drivers = 400 (30 minutes each) + [up to 10 individuals × up to 5 hours of meeting and travel] = up to 250 hours;

Total number of respondents = 779 for the survey, and up to an additional 50 for focus groups (there is potential for overlap of individuals responding to the survey and participating on a voluntary basis in the focus group).

Total burden hours = at least 629 hours and no more than 929 hours (as allocated above).

Estimated Total Annual Burden: This survey will be updated periodically; the estimated total burden for each survey cycle for all respondents is no less than 629 hours.

Public Comment: Between June 25 and August 26, 2013, FHWA invited comments on the approach proposed for conducting the Survey, the contents of the Survey Instrument, and the burden that would occur in the operation of the Survey [see Docket No. FHWA-2013-0017]. Five comments were received during this time period:

• A message supporting the proposed data collection process was received from Missouri DOT.

• A comment from the Texas DOT recommending that the survey include an inquiry about expenditures made by the States on “upkeep and maintenance of truck parking facilities including damage caused by truckers.” This question has been incorporated into the Survey instrument.

• The Virginia DOT submitted comments including an offer to coordinate with them on the Statewide Truck Parking Survey they are embarking on. A preliminary discussion has been conducted with VA DOT to share the steps, goals and objectives of this effort, the status and goals of the VA DOT Study, and the identification of areas where the efforts could be synchronized. The Virginia DOT also pointed out the benefits of aerial mapping tools in identifying truck parking locations. FHWA intends to employ a mapping effort under this project.

• Comments were received from the National Association of Truck Stop Operators (NATSO) laying out several points for FHWA's consideration:

○ Data collection recommendations on number of spaces, sensitivity to time of day and day of week in determining demand (demand is dynamic temporally), enumerating the number of trucks parked in less than ideal locations (highway shoulders, access and egress ramp shoulders, etc.) are all included in the scope of FHWA's Survey;

○ NATSO pointed out that FMCSA's new “Hours-of-Service” regulations will affect truck parking demand and it must be considered in the Survey. This consideration is included in the operation of the Survey FHWA intends to conduct;

○ Reminder that developing “Truck VMT by State” will include trucks that don't have parking needs. FHWA is aware and sensitive to this situation and intends to address this consideration in the project;

○ Reminder that changes in the trucking industry “business model” are underway where the “hub-spoke” model that the industry is transitioning to requires less parking opportunities being required. FHWA will address this factor under the project;

○ Request that the question of “why” is considered when areas that suffer a shortage in truck parking opportunities are identified. FHWA will address this point in the operation of the project;

• The Owner-Operator, Independent Drivers Association (OOIDA) submitted a number of comments for FHWA's consideration:

○ The number of drivers that FHWA suggested would be surveyed (150 in the Federal Register Notice) was seen as inadequate. FHWA reached out to OOIDA for information on the appropriate number of drivers to be surveyed, the number of 400 drivers was offered by OOIDA and the outreach to drivers by FHWA will now include 400 drivers;

○ OOIDA reminded FHWA that the survey of privately owned and operated facilities should not solely include national, multi-state enterprises. OOIDA pointed out those smaller scale facility owners should be included in the Survey. USDOT intends, working with NATSO, to include small, medium and large scale facility owners and operators in the Survey;

○ OOIDA expressed interest in participating in the Metrics Workshop that will be conducted under this project. FHWA intends to include OOIDA representatives as invitees to this event.

FHWA appreciates the comments that were submitted and has, overall, incorporated the suggestions offered into the Survey and other work activities being developed under this Project.

Authority: The Paperwork Reduction Act of 1995; 44 U.S.C. Chapter 35, as amended; and 49 CFR 1.48.

Issued On: December 4, 2013.
Michael Howell,
Information Collection Officer.

[FR Doc. 2013-29428 Filed 12-9-13; 8:45 am]

BILLING CODE P